ENVIRONMENTAL PROTECTION AGENCY

40 CFR Part 52

[EPA-R07-OAR-2015-0513; FRL-9934-95-Region 7]

Approval and Promulgation of Implementation Plans; State of Missouri, Limited Maintenance Plan for the St. Louis Nonclassifiable Maintenance Area for the 8-Hour Carbon Monoxide National Ambient Air Quality Standard

AGENCY: Environmental Protection Agency (EPA).

ACTION: Proposed rule.

SUMMARY: The Environmental Protection Agency (EPA) is proposing to approve revisions to the State Implementation Plan (SIP) submitted by the State of Missouri relating to the Ten Year Limited Maintenance Plan for the St. Louis area for the 8-Hour Carbon Monoxide (CO) National Ambient Air Quality Standard (NAAQS). On April 8, 2014, the Missouri Department of Natural Resources (MDNR) submitted to EPA a second 10-year maintenance plan for the St. Louis area for the CO NAAQS. This maintenance plan addresses maintenance of the CO NAAQS for a second 10-year period beyond the original redesignation. In accordance with the requirements of the Clean Air Act (CAA), EPA is approving the revision because the State adequately demonstrates that the St. Louis Maintenance area will maintain air quality standards for CO through the year 2022.

DATES: Comments on this proposed action must be received in writing by November 2, 2015.

ADDRESSES: Submit your comments, identified by Docket ID No. EPA-R07-OAR-2015-0513, by mail to Steven Brown, Environmental Protection Agency, Air Planning and Development Branch, 11201 Renner Boulevard, Lenexa, Kansas 66219. Comments may also be submitted electronically or through hand delivery/courier by following the detailed instructions in the ADDRESSES section of the direct final rule located in the rules section of this Federal Register.

FOR FURTHER INFORMATION CONTACT: Steven Brown, Environmental Protection Agency, Air Planning and Development Branch, 11201 Renner Boulevard, Lenexa, Kansas 66219 at 913-551-7718, or by email at brown.steven@epa.gov.

SUPPLEMENTARY INFORMATION: In the final rules section of the Federal Register, EPA is approving the state's SIP revision as a direct final rule without prior proposal because the Agency views this as a noncontroversial revision amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment. For additional information, see the direct final rule which is located in the rules section of this Federal Register.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: September 21, 2015.
Mark Hague,
Acting Regional Administrator, Region 7.

[FR Doc. 2015-25038 Filed 10-1-15; 8:45 am]

BILLING CODE 6560-50-P